OFFICE OF THE UNITED STATES TRADE REPRESENTATIVE

Notice of Korea's Completion of Applicable Procedures To Give Effect to a Modification to the Rules of Origin of the U.S.-Korea Free Trade Agreement and Announcement of Effective Date

AGENCY: Office of the United States Trade Representative.

ACTION: Notice.

SUMMARY: In June 2020, the President proclaimed a modification to the rules of origin for certain Korean woven fabrics under the United States-Korea Free Trade Agreement (KORUS) and specified that the modification would go into effect the first day of the month following the date on which the U.S. Trade Representative published a notice that Korea has completed its applicable procedures to give effect to a corresponding modification to its rules of origin to be applied to goods of the United States. Korea notified the United States that it had completed its applicable procedures on April 19, 2024. Accordingly, this notice announces the effective date for that modification.

DATES: The modification to the rules of origin are applicable as of August 1, 2024.

FOR FURTHER INFORMATION CONTACT: Scott Pietan, Deputy Assistant U.S. Trade Representative for Korea, at 202-395-9646 or scott_pietan@ustr.eop.gov.

SUPPLEMENTARY INFORMATION: The United States entered into KORUS on June 30, 2007. Congress approved KORUS in section 101(a) of the United States-Korea Free Trade Agreement Implementation Act (Pub. L. 112-41, 125 Stat. 428) (KORUS Implementation Act or Act). Section 202 of the KORUS Implementation Act provides rules for determining whether goods imported into the United States originate in the territory of a KORUS party and thus are eligible for the tariff and other treatment contemplated under the KORUS. Section 202 of the Act also authorizes the President to proclaim, as a part of the Harmonized Tariff Schedule of the United States (HTSUS), the rules of origin set out in the KORUS, and to modify previously proclaimed rules of origin, subject to the consultation and layover requirements of section 104 of the Act. Presidential Proclamation 8783 of March 6, 2012 (77 FR 14265) proclaimed the tariff modifications and rules of origin necessary or appropriate to carry out the KORUS in the HTSUS.

In 2018, the Government of Korea submitted requests to modify certain textile rules of origin based on commercial availability of specific inputs. Following public comment on the proposed rules changes (83 FR 52418, October 17, 2018), the United States and Korea reached agreement to modify the rule of origin concerning certain woven fabrics of HTSUS heading 5408. Pursuant to the KORUS Implementation Act, the U.S. International Trade Commission (USITC) conducted an economic impact review and concluded that the impact on U.S. imports, exports and production of the proposed modifications would be negligible. See USITC Pub. 4917: https://www.usitc.gov/publications/tariff_affairs/pub4917.pdf. The Industry Trade Advisory Committee on Textiles and Clothing did not object to the proposed modifications. Congress also did not object during the consultation and layover process.

In Proclamation 10053 of June 29, 2020 (85 FR 39821, July 1, 2020), the President determined that it was necessary to modify the HTSUS in order to reflect the agreement between the United States and Korea related to the KORUS rules of origin and proclaimed a modification to the HTSUS as set forth in Annex VI of USITC Publication 5060— https://www.usitc.gov/publications/tariff_affairs/pub5060.pdf. Pursuant to Annex VI, this modification is effective the first day of the month following the date on which the U.S. Trade Representative publishes a notice that Korea has completed its applicable procedures to give effect to a corresponding modification to be applied to goods of the United States.

On April 19, 2024, Korea notified the United States that it had completed its applicable domestic procedures to give effect to a corresponding modification to the KORUS rules of origin for certain fabrics of heading 5408 with respect to goods of the United States. Pursuant to Presidential Proclamation 10053 this change takes effect August 1, 2024.

Katherine White,
Chief Textiles and Apparel Negotiator, Office of the United States Trade Representative.

[FR Doc. 2024-14094 Filed 7-1-24; 8:45 am]

BILLING CODE 3390-F4-P